DEPARTMENT OF AGRICULTURE

Forest Service

National Urban and Community Forestry Advisory Council Meeting

AGENCY: Forest Service, USDA.

ACTION: Notice of meeting.

SUMMARY: The National Urban and Community Forestry Advisory Council (Council) will meet in Coral Gables, Florida. The Council is established consistent with the Federal Advisory Committee Act of 1972 and the 1990 Farm Bill, Cooperative Forestry Assistance Act, Section 9 of the Cooperative Forestry Assistance Act, as amended by Title XII, Section 1219. Additional information concerning the Council, including meeting summary/minutes, can be found by visiting the Council's Web site at: www.fs.fed.us/ucf/nucfac.

DATES: The meeting will be held on:

• Wednesday, June 16, 2015 from 8:30 a.m.-4:00 p.m.

• Thursday, June 17, 2015 from 8:30 a.m.-4:00 p.m.

• Friday, June 18, 2015 from 8:30 a.m.-12:00 p.m., or until Council business is completed.

All meetings are subject to cancellation. For updated status of the meeting prior to attendance, please contact the person listed under FOR FURTHER INFORMATION CONTACT.

ADDRESSES: The meeting will be held at the John Martin's Restaurant (2nd Level), 253 Miracle Mile, Coral Gables, Florida 33134. Written comments may be submitted as described under SUPPLEMENTARY INFORMATION. All comments, including names and addresses, when provided, are placed in the record and available for public inspection and copying.

FOR FURTHER INFORMATION CONTACT: Nancy Stremple, Executive Staff to the National Urban and Community Forestry Advisory Council, 201 14th Street SW., Yates Building (3 South Central), Washington, DC 20024, or by cell phone 202-309-9873. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to provide:

(1) Review the status of the next National Ten Year Urban Forest Action Plan;

(2) Meet with State and local urban forestry partners;

(3) Tour local urban and forestry restoration, volunteer and conservation efforts;

(4) Finalize the Work Plan action items;

(5) Discuss National Grants;

(6) Hear updates from past grant recipients;

(7) Receive Forest Service updates on program activities and budget; and

(8) Hear feedback from the submitted accomplishment/recommendations report.

The meeting is open to the public. The agenda will include time for people to make oral statements of three minutes or less. Individuals wishing to make an oral statement should submit a request in writing by June 2, 2015 to be scheduled on the agenda. Council discussion is limited to Forest Service staff and Council members; however, persons who wish to bring urban and community forestry matters to the attention of the Council may file written statements with the Council's staff before or after the meeting. Written comments and time requests for oral comments must be sent to Nancy Stremple, Executive Staff to the National Urban and Community Forestry Advisory Council, 201 14th Street SW., Yates Building (3 South Central), Washington, DC 20024, or by email at nstremple@fs.fed.us.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: May 28, 2015.
Patti Hirami,
Associate Deputy Chief, State and Private Forestry.

[FR Doc. 2015-13448 Filed 6-2-15; 8:45 am]

BILLING CODE 3411-15-P